DEPARTMENT OF COMMERCE

National Oceanic and Atmospheric Administration

[RTID 0648-XE413]

Endangered Species; File No. 21467

AGENCY: National Marine Fisheries Service (NMFS), National Oceanic and Atmospheric Administration (NOAA), Commerce.

ACTION: Notice; receipt of application for a permit modification.

SUMMARY: Notice is hereby given that Karen Holloway-Adkins, Ph.D., East Coast Biologists, Inc., P.O. Box 33715, Indialantic, FL 32903, has requested a modification to scientific research Permit No. 21467-02.

DATES: Written comments must be received on or before November 27, 2024.

ADDRESSES: The modification request and related documents are available for review by selecting “Records Open for Public Comment” from the Features box on the Applications and Permits for Protected Species home page, https://apps.nmfs.noaa.gov, and then selecting File No. 21467 Mod 6 from the list of available applications. These documents are also available upon written request via email to NMFS.Pr1Comments@noaa.gov.

Written comments on this application should be submitted via email to NMFS.Pr1Comments@noaa.gov. Please include File No. 21467 in the subject line of the email comment.

Those individuals requesting a public hearing should submit a written request via email to NMFS.Pr1Comments@noaa.gov. The request should set forth the specific reasons why a hearing on this application would be appropriate.

FOR FURTHER INFORMATION CONTACT: Erin Markin, Ph.D., or Amy Hapeman, (301) 427-8401.

SUPPLEMENTARY INFORMATION: The subject modification to Permit No. 21467-02, issued on July 2, 2021 (86 FR 43630, August 10, 2021), is requested under the authority of the Endangered Species Act of 1973, as amended (16 U.S.C. 1531 et seq.) and the regulations governing the taking, importing, and exporting of endangered and threatened species (50 CFR parts 222-226).

Permit No. 21467-02 authorizes the permit holder to determine (1) spatial and temporal distribution, (2) mean size, (3) foraging habitats and diet composition, (4) body conditions and fibropapillomatosis ratios, (5) genetic origin, and (6) home-range, site fidelity, and residency times of green (Chelonia mydas) and loggerhead (Caretta caretta) sea turtles in Brevard County, Florida. Researchers may capture by tangle, cast, or dip net or hand, measure, mark, biologically sample, tag, weigh, and photograph sea turtles prior to release. The permit holder requests authorization to (1) increase the annual number of juvenile green sea turtles from 25 to 95 for the authorized methods listed above and (2) add 10 adult green turtles annually for capture by tangle net, measure, and photograph/video, prior to release. The permit is valid through September 30, 2027.

Dated: October 21, 2024.
Julia M. Harrison,
Chief, Permits and Conservation Division, Office of Protected Resources, National Marine Fisheries Service.

[FR Doc. 2024-24993 Filed 10-25-24; 8:45 am]

BILLING CODE 3510-22-P